DEPARTMENT OF AGRICULTURE

Animal and Plant Health Inspection Service

[Docket No. APHIS-2014-0061]

Notice of Request for Extension of Approval of an Information Collection; Citrus Canker, Citrus Greening, and Asian Citrus Psyllid; Interstate Movement of Regulated Nursery Stock

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the interstate movement of regulated nursery stock from quarantined areas to prevent the spread of citrus canker, citrus greening, and Asian citrus psyllid.

DATES: We will consider all comments that we receive on or before April 13, 2015.

ADDRESSES: You may submit comments by either of the following methods:

• Federal eRulemaking Portal: Go to http://www.regulations.gov/#!docketDetail;D=APHIS-2014-0061.

• Postal Mail/Commercial Delivery: Send your comment to Docket No. APHIS-2014-0061, Regulatory Analysis and Development, PPD, APHIS, Station 3A-03.8, 4700 River Road Unit 118, Riverdale, MD 20737-1238.

Supporting documents and any comments we receive on this docket may be viewed at http://www.regulations.gov/#!docketDetail;D=APHIS-2014-0061 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the interstate movement of regulated nursery stock from citrus canker, citrus greening, and Asian citrus psyllid quarantined areas, contact Ms. Lynn Evans-Goldner, National Policy Manager, PHP, PPQ, APHIS, 4700 River Road Unit 137, Riverdale, MD 20737; (301) 851-2286. For copies of more detailed information on the information collection, contact Ms. Kimberly Hardy, APHIS' Information Collection Coordinator, at (301) 851-2727.

SUPPLEMENTARY INFORMATION:

Title: Citrus Canker, Citrus Greening, and Asian Citrus Psyllid; Interstate Movement of Regulated Nursery Stock.

OMB Control Number: 0579-0369.

Type of Request: Extension of approval of an information collection.

Abstract: The Plant Protection Act (7 U.S.C. 7701 et seq.) authorizes the Secretary of U.S. Department of Agriculture (USDA), either independently or in cooperation with States, to carry out operations or measures to detect, eradicate, suppress, control, prevent, or retard the spread of plant pests, such as citrus canker, citrus greening, and Asian citrus psyllid, that are new to or not widely distributed within the United States. The USDA's Animal and Plant Health Inspection Service (APHIS) is the delegated authority to carry out this mission.

Citrus canker is a plant disease that affects plant and plant parts, including fresh fruit of citrus and citrus relatives (family Rutaceae). Citrus canker can cause defoliation and other serious damage to the leaves and twigs of susceptible plants. It can also cause lesions on the fruit of infected plants and cause infected fruit to drop from trees before reaching maturity. The aggressive A (Asiatic) strain of citrus canker can infect susceptible plants rapidly and lead to extensive economic losses in commercial citrus-producing areas.

Citrus greening, also known as Huanglongbing disease of citrus, is considered to be one of the most serious citrus diseases in the world. Citrus greening is a bacterial disease that attacks the vascular system of host plants. This bacterial pathogen can be transmitted by grafting and under laboratory conditions, by parasitic plants. The pathogen can also be transmitted by two insect vectors in the family Psyllidae; Diaphorina citri Kuwayama, the Asian citrus psyllid (ACP), and Trioza erytreae (del Guercio), the African citrus psyllid. ACP can also cause economic damage to citrus in groves and nurseries by direct feeding. Both adults and nymphs feed on young foliage, depleting the sap and causing galling or curling of leaves. High populations feeding on a citrus shoot can kill the growing tip.

APHIS regulations to prevent the interstate spread of citrus canker are contained in “Subpart—Citrus Canker” (7 CFR 301.75-1 through 301.75-17), and the regulations to prevent the interstate spread of citrus greening and Asian citrus psyllid are contained in “Subpart—Citrus Greening and Asian Citrus Psyllid” (7 CFR 301.76 through 301.76-11). These regulations restrict the interstate movement of regulated articles from and through areas quarantined for the pest and diseases and provide, among other things, conditions under which regulated nursery stock may be moved interstate. The interstate movement of regulated nursery stock from these quarantined areas involves information collection activities, including the application of tags, records of inspections and treatments, compliance agreements, Federal certificates, and limited permits.

Since the last extension of approval for these information collection activities, APHIS has added several States and territories, as well as additional businesses, to the number of respondents, resulting in an increase over the initial program estimates. As a result, each of the burden estimates has increased. Most significantly, APHIS has increased the estimated annual number of responses from 13,182 to 7,882,984, and the estimated total annual burden on respondents has increased from 1,900 hours to 2,411,271 hours.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.3058 hours per response.

Respondents: Nursery stock owners.

Estimated annual number of respondents: 1,909.

Estimated annual number of responses per respondent: 4,129.

Estimated annual number of responses: 7,882,984.

Estimated total annual burden on respondents: 2,411,271 hours. (Due to averaging, the total annual burden hours may not equal the product of the annual number of responses multiplied by the reporting burden per response.)

All responses to this notice will be summarized and included in the request for OMB approval. All comments will also become a matter of public record.

Done in Washington, DC, this 4th day of February 2015.
Kevin Shea,
Administrator, Animal and Plant Health Inspection Service.

[FR Doc. 2015-02678 Filed 2-9-15; 8:45 am]

BILLING CODE 3410-34-P